DEPARTMENT OF AGRICULTURE

Farm Service Agency

7 CFR Parts 718 and 729

Commodity Credit Corporation

7 CFR Part 1446

RIN 0560-AF61

Amendments to Regulations Governing the Peanut Poundage Quota and Price Support Programs

AGENCIES: Farm Service Agency and Commodity Credit Corporation, USDA.

ACTION: Final rule.

SUMMARY: The Commodity Credit Corporation (CCC) and Farm Service Agency (FSA) are adopting as a final rule the provisions of an interim rule issued February 18, 2000, which made minor changes to regulations governing the peanut poundage quota and price support programs. The rule also makes a technical amendment to the regulations to reinstate compliance regulations that are applicable to tolerance for peanut acreage reported as planted. In addition, this rule makes technical corrections which update regulations dealing with appeals and with imported peanuts.

This action is necessary to improve the administration of the peanut quota and price support programs.

DATES: Effective October 30, 2000.

FOR FURTHER INFORMATION CONTACT: David Kincannon, (202) 720-7914.

SUPPLEMENTARY INFORMATION:

Executive Order 12866

For purposes of Executive Order 12866, this rule was determined to be not significant and was not reviewed by the Office of Management and Budget (OMB) under Executive Order 12866.

Regulatory Flexibility Act

The Regulatory Flexibility Act is not applicable to this interim rule because neither the FSA nor CCC is required by 5 U.S.C. 553 or any other provision of law to publish a notice of proposed rulemaking with respect to the subject matter of this rule.

Environmental Evaluation

It has been determined by an environmental evaluation that this action will have no significant impact on the quality of the human environment. Therefore, neither an Environmental Assessment nor an Environmental Impact Statement is needed.

Unfunded Federal Mandates

This rule contains no Federal mandates under the regulatory provisions of Title II of the Unfunded Mandate Reform Act of 1995 (UMRA), for State, local, and tribal governments or the private sector. Thus, this rule is not subject to the requirements of sections 202 and 205 of the UMRA.

Federal Assistance Program

The title and number of the Federal Assistance Program, as found in the Catalog of Federal Domestic Assistance, to which this interim rule applies are: Commodity Loans and Purchases—10.051.

Executive Order 12372

This program is not subject to the provisions of Executive Order 12372, which requires intergovernmental consultation with State and local officials. See the Notice related to 7 CFR part 3015, subpart V, published at 48 FR 29115 (June 24, 1983).

Executive Order 12988

This rule has been reviewed in accordance with Executive Order 12988. The provisions of this rule do not preempt State laws to the extent that such laws are consistent with the provisions of this rule. Before any legal action may be brought regarding determinations of this rule, the administrative appeal provisions set forth at 7 CFR part 780 must be exhausted.

National Appeals Division Rules of Procedure

The procedures set out in 7 CFR parts 11 and 780 apply to appeals of adverse decisions made under the regulations adopted in this rule.

Paperwork Reduction Act

The information collection reporting requirements contained in the regulations at 7 CFR parts 729 and 1446 include OMB Control Numbers 0560-0006 and 0560-0014 assigned by OMB. The 0560-0006 collection requirements have been approved by OMB and the 0560-0014 collection requirements have been forwarded for approval. The provisions of this rule do not impose new reporting requirements or changes in existing information collection requirements.

Background

An interim rule issued by CCC and FSA on February 18, 2000, initiated changes to regulations at 7 CFR parts 718, 729 and 1446 applicable to the peanut poundage quota and price support programs. The changes were relatively minor and primarily clarified administrative provisions. Some changes corrected erroneous references and, in one case, restated a necessary provision inadvertently omitted in previous rulemaking. Several changes provided peanut producers greater flexibility. The comment period expired March 20. FSA received no comments to the amendments made effective by the interim rule. Accordingly, the provisions of the interim rule have been adopted as final amendments to the regulations.

In addition, this final rule amends § 1446.416 to remove the specific reference to section 22 of the Agricultural Adjustment Act of 1933, as amended (1933 Act), to add references to other authority pursuant to which the President could temporarily suspend restrictions on the importation of peanuts and to amend references to the National Appeals Division that are no longer applicable or appropriate due to statutory and regulatory changes.

Suspension of Restrictions on Imported Peanuts

Under Section 358e(f)(6) of the Agricultural Adjustment Act of 1938 (1938 Act), it is provided that notwithstanding any other provision of the 1938 Act, if the President issues a proclamation under section 404(b) of the Uruguay Round Agreements Act (19 USCS 3601(b)) expanding the quantity of peanuts subject to the in-quota rate of duty under a tariff-rate quota, or under section 22 of the Agricultural Adjustment Act (7 U.S.C. 624), reenacted with amendments by the Agricultural Marketing Agreement Act of 1937, temporarily suspending restrictions on the importation of peanuts, the Secretary shall, subject to such terms and conditions as the Secretary may prescribe, permit a handler, with the written consent of the producer, to purchase additional peanuts from any producer who contracted with the handler and to offer the peanuts for sale for domestic edible use. That provision is administered, for the peanut program, under 7 CFR 1446.616 but until this notice, which updates the regulation, the only statutory provision referred to in the regulation was Section 22 of the Agricultural Adjustment Act. This notice amends 1446.416 so that it will more closely track the provision of Section 358e(f)(6) of the 1938 Act.

Reductions of Penalties and Appeals

The National Appeals Division (NAD) was reorganized by the Federal Crop Insurance Reform and Department of Agriculture Reorganization Act of 1994 (Pub. L. 103-345) (the Act) and made subject to the general supervision of and policy direction of the Secretary of Agriculture. As a result of the reorganization, a new part 11 was added to 7 CFR Subtitle A to set forth the provisions for program participants to seek review of an adverse decision. The provisions of 7 CFR 1446.704 no longer accurately reflected the appeal process as set forth in the regulations at 7 CFR part 11 applicable to NAD. In addition, there was no reference to the appeal regulations at 7 CFR part 11. Accordingly, the provisions of § 1446.704 are amended by this final rule to address penalty reductions only and a new section, § 1446.705 is added to direct the public to the appeal regulations at 7 CFR parts 11 and 780.

Because no comments were received on the amendments implemented by the interim rule and since the amendments were minor, clarifying and administrative in nature, the interim rule published at 65 FR 8245 on February 18, 2000, amending 7 CFR parts 718, 729 and 1446, is adopted by this rule as final without change. The changes made are of administrative nature for clarification. We have determined that these changes should be included in this final rule as a delay in implementation would be contrary to the public interest.

List of Subjects

7 CFR Part 718

Acreage allotments, Drug traffic control, Loan programs-agriculture, Marketing quotas, Price support programs, Reporting and recordkeeping requirements.

7 CFR Part 729

Marketing quotas, Peanuts, Penalties, Reporting and recordkeeping requirements.

7 CFR Part 1446

Loan programs-agriculture, Peanuts, Price support programs, Reporting and recordkeeping requirements, Warehouses.

Accordingly, for the reasons set forth in the preamble, changes to 7 CFR parts 718, 729 and 1446 as issued as an interim rule are adopted as final without change. In addition, part 1446 is further amended as follows:

PART 1446-PEANUTS

1. The authority citation for part 1446 continues to read as follows:

Authority: 7 U.S.C. 7271; 15 U.S.C. 714b and 714c.

§ 1446.416 [Amended]

2. Section 1446.416 is amended by removing the phrase “section 22 of the Agricultural Adjustment Act of 1933, as amended,” and adding the phrase “Section 404(b) of the Uruguay Round Agreements Act (19 USCS § 3601(b)) expanding the quantity of peanuts subject to the in-quota rate of duty under a tariff-rate quota, or under section 22 of the Agricultural Adjustments Act (7 U.S.C. 624), reenacted with amendments by the Agricultural Marketing Agreement Act of 1937”.

3. Section 1446.704 is revised to read as follows:

§ 1446.704 Reductions of penalties.

(a) Request for reconsideration. A handler who is dissatisfied with a penalty that has been assessed against such handler by the CCC Contracting Officer pursuant to this part may file a written request for reconsideration or reduction of the penalty that has been assessed. Such request must be made within 15 days after the date of the notice of assessment.

(b) Reduction of penalties.

(1) By CCC Contracting Officer. To the extent permitted by the provisions of paragraph (d) of this section, the CCC Contracting Officer may reduce the amount of penalty that is otherwise determined or assessed in accordance with this part. Such reduction may be made before the penalty is assessed or may be made during the course of an appeal.

(2) By the Executive Vice President, CCC. To the extent permitted by the provisions of paragraph (d) of this section, the Executive Vice President, CCC, or the Executive Vice President's designee, may reduce the amount of penalty that has been assessed in accordance with this part.

(c) Reduction criteria. A penalty that is determined or assessed in accordance with this part may be reduced by the CCC Contracting Officer or the Executive Vice President, CCC, or the Executive Vice President's designee, if such person determines that:

(1) The violation for which the penalty was assessed was minor or inadvertent;

(2) A reduction in the amount of the penalty would not impair the effective operation of the peanut program; and

(3) The assessment of penalty was not made for failure to export contract additional peanuts.

(d) Reduction limits.

(1) If the reduction criteria in paragraph (c) of this section has been met, the CCC Contracting Officer or the Executive Vice President, CCC, or the Executive Vice President's designee, as applicable, may reduce the penalty by such amount as such person considers appropriate (including a full reduction of the entire penalty) after taking into account the severity of the violation and the violation history of the handler.

(2) If one of the criteria in paragraphs (c) (1) and (2) of this section has not been satisfied and the remaining criteria has been satisfied, the penalty shall not be reduced to less than an amount which is equal to 40 percent of the national average quota support rate for the applicable crop year times the quantity of peanuts involved in the violation.

(3) There shall not be a limit on the amount by which an assessment of liquidated damages may be reduced by the CCC Contracting Officer or the Executive Vice President, CCC, or the Executive Vice President's designee.

§ 1446.705 and 1446.706 [Redesignated as sections 1446.706 and 1446.707]

4. Sections 1446.705 and 1446.706 are redesignated as 1446.706 and 1446.707 and § 1446.705 is added to read as follows:

§ 1446.705 Appeals.

A handler may obtain reconsideration and review of any adverse determination made under this part in accordance with the appeal regulations found at 7 CFR parts 11 and 780 of this title.

Signed at Washington, D.C., on October 23, 2000.
Keith Kelly,
Administrator, Farm Service Agency and Executive Vice President, Commodity Credit Corporation.

[FR Doc. 00-27715 Filed 10-27-00; 8:45 am]

BILLING CODE 3410-05-P